DEPARTMENT OF HOMELAND SECURITY

U.S. Citizenship and Immigration Services

Agency Information Collection Activities: Form I-129, Extension of an Existing Information Collection; Comment Request

ACTION: 30-Day Notice of Information Collection Under Review: Form I-129, Petition for Nonimmigrant Worker; OMB Control Number 1615-0009.

On February 5, 2008, U.S. Citizenship and Immigration Services (USCIS) published a 60 Day notice in the Federal Register announcing a revision to Form I-129. However due to the approaching expiration of Form I-129 at the end of May, USCIS has decided to publish the second submission as an extension. When the proposed revision to Form I-129 is ready to be reviewed by the public, USCIS will follow normal protocol and publish another 60 and 30 Day Notice in the Federal Register announcing the revision and requesting comments.

The Department of Homeland Security, U.S. Citizenship and Immigration Services (USCIS) has submitted the following information collection request to the Office of Management and Budget (OMB) for review and clearance in accordance with the Paperwork Reduction Act of 1995. The information collection was previously published in the Federal Register on February 5, 2008, at 73 FR 6733 allowing for a 60-day public comment period.

The purpose of this notice is to allow an additional 30 days for public comments. Comments are encouraged and will be accepted until May 22, 2008. This process is conducted in accordance with 5 CFR 1320.10.

Written comments and/or suggestions regarding the item(s) contained in this notice, especially regarding the estimated public burden and associated response time, should be directed to the Department of Homeland Security (DHS), USCIS, Chief, Regulatory Management Division, Clearance Office, 111 Massachusetts Avenue, NW., 3rd Floor, Washington, DC 20529. Comments may also be submitted to DHS via facsimile to 202-272-8352 or via e-mail at rfs.regs@dhs.gov, and to the OMB USCIS Desk Officer via facsimile at 202-395-6974 or via e-mail at kastrich@omb.eop.gov.

When submitting comments by e-mail, please make sure to add OMB Control Number 1615-0009 in the subject box. Written comments and suggestions from the public and affected agencies concerning the collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved information collection.

(2) Title of the Form/Collection: Petition for Nonimmigrant Worker.

(3) Agency form number, if any and the applicable component of the Department of Homeland Security sponsoring the collection: Form I-129. U.S. Citizenship and Immigration Services.

(4) Affected public who will be asked or required to respond, as well as brief abstract: Primary: Individuals or households. This form is used by an employer to petition for aliens to come to the U.S. temporarily to perform services, labor, and training or to request extensions of stay or changes in nonimmigrant status for nonimmigrant workers.

(5) An estimate of the total number of respondents and the amount of time estimated for an average respondent to respond: 368,948 responses at 2.75 hours per response.

(6) An estimate of the total public burden (in hours) associated with the collection: 1,014,607 annual burden hours.

If you have additional comments, suggestions, or need a copy of the information collection instrument, please visit the USCIS Web site at: http://www.regulations.gov/search/index.jsp.

We may also be contacted at: USCIS, Regulatory Management Division, 111 Massachusetts Avenue, NW., Suite 3008, Washington, DC 20529, telephone number 202-272-8377.

Dated: April 16, 2008.
Stephen Tarragon,
Acting Chief, Regulatory Management Division, U.S. Citizenship and Immigration Services, Department of Homeland Security.

[FR Doc. E8-8645 Filed 4-21-08; 8:45 am]

BILLING CODE 9111-97-P